ENVIRONMENTAL PROTECTION AGENCY

[OAR-2005-0088, FRL-7953-5]

Agency Information Collection Activities: Proposed Collection; Comment Request; Assessment of Indoor Air Quality Outreach Products and Services, EPA ICR Number 2190.01

AGENCY: Environmental Protection Agency (EPA).

ACTION: Notice.

SUMMARY: In compliance with the Paperwork Reduction Act (44 U.S.C. 3501 et seq.), this document announces that EPA is planning to submit a proposed Information Collection Request (ICR) to the Office of Management and Budget (OMB). This is a request for a new collection. Before submitting the ICR to OMB for review and approval, EPA is soliciting comments on specific aspects of the proposed information collection as described below.

DATES: Comments must be submitted on or before September 15, 2005.

ADDRESSES: Submit your comments, referencing docket ID number OAR-2005-0088, to EPA online using EDOCKET (our preferred method), by email to a-and-r-docket@epa.gov, or by mail to: EPA Docket Center, Environmental Protection Agency, Air Docket, Mail Code: 6102T, 1200 Pennsylvania Ave., NW., Washington, DC 20460.

FOR FURTHER INFORMATION CONTACT: John Hall, Indoor Environments Division, mail code 6609J, Environmental Protection Agency, 1200 Pennsylvania Ave., NW., Washington, DC 20460; telephone number: 202-343-9453; fax number: 202-343-2393; e-mail address: Hall.JohnM@epa.gov.

SUPPLEMENTARY INFORMATION: EPA has established a public docket for this ICR under Docket ID number OAR-2005-0088, which is available for public viewing at the Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air Docket is (202) 566-1744. An electronic version of the public docket is available through EPA Dockets (EDOCKET) at http://www.epa.gov/edocket. Use EDOCKET to obtain a copy of the draft collection of information, submit or view public comments, access the index listing of the contents of the public docket, and to access those documents in the public docket that are available electronically. Once in the system, select “search,” then key in the docket ID number identified above.

Any comments related to this ICR should be submitted to EPA within 60 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Affected Entities: Entities potentially affected by this action include customers who request our products, including, but not limited to: teachers and day care workers; principals; superintendents; students; parents; care givers; nurses; health care providers; state and local health departments; facility managers; maintenance personnel; custodians; school business officials; private industry; home owners; home builders and architects; real estate industry personnel; commercial building owners and operators; and procurement officials that receive EPA outreach products and services. The burden from the product feedback form that will be provided to these customers will be minimal.

Title: Assessment of Indoor Air Quality Outreach Products and Services.

Abstract: The Environmental Protection Agency is seeking approval for a three year generic clearance from the Office of Management and Budget (OMB) to determine how well EPA outreach products and services meet customers' needs and to assess the effectiveness of its outreach products and services. This will be a voluntary collection of information to gauge customer satisfaction with outreach products and services, measure any resulting changes in knowledge or behavior, and evaluate environmental and human health impacts. EPA proposes to use assessment surveys to obtain feedback on outreach products and services including: documents, Web sites, and voluntary seminars and workshops delivered by Headquarters and Regional voluntary programs to the community. This feedback will help EPA improve the quality and delivery of voluntary tools and services.

An agency may not conduct or sponsor, and a person is not required to respond to, a collection of information unless it displays a currently valid OMB control number. The OMB control numbers for EPA's regulations in 40 CFR are listed in 40 CFR part 9.

This ICR will provide data for the purpose of informing EPA of the effectiveness of outreach products and services, and customer satisfaction with outreach products and services. The information collection is voluntary, and will be limited to non-sensitive data concerning the quality of outreach products and services. EPA will request feedback from a representative sample of those who receive products and services. The data collected will be used to estimate the rate of effectiveness of outreach products and services and no data collected will be used to make policy decisions.

To help fulfill the broad mandate of protecting human health and the environment, EPA provides outreach products and services to the general public. Outreach products and services provide the general public with the specific information necessary to achieve and maintain good indoor air quality. In addition to providing information on indoor air quality, these products and services describe ways people can work to improve the indoor air quality in their home, work place, school, etc. Specific behavioral changes are described in our products and services that will help improve indoor air quality. In order to determine the effectiveness of the products and services EPA provides, it is essential to know to what extent the products and services impact customer behavior. It is also essential to know how satisfied customers are with these products and services, and if they are fully meeting their needs. A better understanding of the effectiveness of EPA's products will also provide a better understanding of the rate of improvement of indoor air quality among customers receiving our products.

EPA believes that evaluating outreach products and services is necessary to ensure customer needs are met, as well as to maintain efficient and effective assistance. Understanding our customers' ability to use our tools and services in their practical applications, and the rates of use of these tools and services, will assist the Agency in planning its future outreach products and services efforts.

Each product feedback form has a burden time of five minutes per respondent. There are three general questions to be asked of all customers indicating customer satisfaction with various outreach products and services. These questions will identify ways that products can be strengthened to better meet our customers' needs and will indicate the means by which our customers heard about our products. A better understanding of how IED's customers learn about its issues and products will help IED better target its audiences.

Each of IED's products addresses particular IAQ issues and informs the customer of actions that can be taken to eliminate or reduce the IAQ problem. Behavioral change questions inform IED about what actions people have taken as a result of the products, and therefore indicate how effective the product is at affecting peoples' behaviors. IED has developed a question for each of the major topic areas covered by the division. One such question will be included in each product feedback form.

For a small subset of our products, there is value in understanding what the customer has learned from a particular product, in addition to what behavioral changes they have made. Effective behavior change is multi-dimensional and encompasses a set of attributes including reaction, knowledge, attitude, skills, intentions and behaviors. These attributes can be considered milestones along a roadmap which ultimately leads to behavioral outcomes. Therefore, we will be asking a fifth question of these audiences. This additional question will add no significant burden time to the recipient of the questionnaire.

The EPA would like to solicit comments to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: In order to minimize the respondent burden, product feedback form designs will be simple, convenient, easy to respond to, and clear in content and purpose. Product feedback forms will be of limited scope and require only a short time to complete. Below is the estimated project cost and hour burden estimate. This includes an estimate of the average annual reporting burden disaggregated to show the estimated average burden hours per response, the proposed frequency of response, and the estimated number of likely respondents. For the cost burden to respondents or record keepers resulting from the collection of information, this includes a total capital and start-up cost component annualized over its expected useful life, and a total operation and maintenance component.

Table 6.1.—Three-Year Outreach Products and Services Assessment Activities—FY2006-FY2009
Assistance activity (number of events) | Type of survey (number of events) | Estimated No. of respondents | Estimated survey time in minutes | Total burden (hours) | Total cost
Workshops (48) | ¹ (4,875) | 3,900 | 5 | 325 | $28,337.00
Outreach Products (25) | ² (112,500) | 90,000 | 5 | 7,500 | 653,925.00
Totals over 3 years | 117,375 | 93,900 |  | 7,825 | 682,262.00
Annual Totals | 39,125 | 31,300 |  | 2,608 | 227,392.00
¹ Phone.
² Mail/E-mail.

Table 6-3.—Three-Year Agency Burden/Cost for Implementing Surveys
Activities | Hours | No. of events | Total burden (hours) | Total cost
Survey Development | 5 | 40 | 200 | $9,316.00
IED Review of Survey | 5 | 40 | 200 | 9,316.00
Administration of Survey | ¹ .0167 | 93,900 | 1,568 | 73,043.00
Compilation of Survey Results | ² .05 | 93,900 | 4,695 | 218,693.00
Analysis of Survey Results | ² .05 | 93,900 | 4,695 | 218,693.00
3-Year Total |  | 279,080 | 11,358 | 529,061.00
Annual Total |  | 93,026 | 3,786 | 176,354.00
¹ 1 minute.
² 3 minutes.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: August 9, 2005.
Jeffrey Holmstead,
Assistant Administrator for Air and Radiation, Office of Air and Radiation.

[FR Doc. 05-16221 Filed 8-15-05; 8:45 am]

BILLING CODE 6560-50-P